DEPARTMENT OF COMMERCE

Economic Development Administration

Agency Information Collection Activities; Submission to the Office of Management and Budget (OMB) for Review and Approval; Comment Request; Travel, Tourism, and Outdoor Recreation Data Collection Instrument

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 2, 2023.

ADDRESSES: Interested persons are invited to submit written comments via email to Jacklyn Claxton, Management and Program Analyst, Economic Development Administration, Department of Commerce, at jclaxton@eda.gov or PRAcomments@doc.gov). Please reference Travel, Tourism, and Outdoor Recreation Data Collection Instrument in the subject line of your comments. Do not submit Confidential Business Information or otherwise sensitive or protected information.

FOR FURTHER INFORMATION CONTACT: Requests for additional information or specific questions related to collection activities should be directed to Jacklyn Claxton, Management and Program Analyst, Economic Development Administration, Department of Commerce, at jclaxton@eda.gov or 202-236-8372).

SUPPLEMENTARY INFORMATION:

I. Abstract

The Economic Development Administration (EDA) leads the Federal economic development agenda by promoting innovation and competitiveness, preparing American regions for growth and success in the worldwide economy. Guided by the basic principle that sustainable economic development should be driven locally, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, workforce development, capacity building, and business development to attract private capital investments and new and better jobs to regions experiencing economic distress. Further information on EDA programs and financial assistance opportunities can be found at www.eda.gov.

To effectively administer and monitor its economic development assistance programs, EDA collects certain information from applications for, and recipients of, EDA investment assistance. The purpose of this notice is to seek comments from the public and other Federal agencies on a request for a new information collection for recipients of awards under the EDA American Rescue Plan Act (ARPA) Travel, Tourism and Outdoor Recreation. This is aligned with ensuring that Federal travel, tourism and outdoor recreation investments are evidence-based and data-driven, and accountable to participants and the public.

The EDA research grantee will study the effectiveness of the ARPA Travel, Tourism and Outdoor Recreation Program, which aims to (1) expand the travel, tourism, and outdoor recreation economy; (2) create equitable opportunities for underserved populations; (3) build diversified local recreation economies that are resilient to future economic shocks and climate change; and (4) foster higher-skilled, higher wage job opportunities. To that end, EDA will conduct an electronic data collection survey of ARPA Travel, Tourism and Outdoor Recreation recipients. A subset of the recipients (30) will be engaged in phone interviews to narrow a selection of projects for the development of case studies.

EDA is particularly interested in public comment on how the proposed data collection will support the assessment of program effectiveness, or if alternative information should be considered.

II. Method of Collection

Data will be collected electronically and via phone interviews.

III. Data

OMB Control Number: New information collection.

Form Number(s): None: new information collection.

Type of Review: Regular submission: new information collection.

Affected Public: Recipients of ARPA Travel, Tourism and Outdoor Recreation awards, which may include (i) District Organization of an EDA-designated Economic Development District (EDD); (ii) Indian Tribe or a consortium of Indian Tribes; (iii) State, county, city, or other political subdivision of a State, including a special purpose unit of a State or local government engaged in economic or infrastructure development activities, or a consortium of political subdivisions; (iv) institution of higher education or a consortium of institutions of higher education; or (v) public or private non-profit organization or association acting in cooperation with officials of a general purpose political subdivision of a State.

Estimated Number of Respondents: A total of 332 respondents for the electronic survey and a subset of 30 for the phone interviews.

Estimated Time per Response: Two hours for the electronic survey and 0.75 hours for each phone interview.

Estimated Total Annual Burden Hours: 664 hours for the electronic survey and 22.5 hours for the phone interviews.

Estimated Total Annual Cost to Public: $42,590.46 (cost assumes application of U.S. Bureau of Labor Statistics third quarter 2022 mean hourly employer costs for employee compensation for professional and related occupations of $62.04).

Respondent's Obligation: Mandatory.

Legal Authority: The Public Works and Economic Development Act of 1965 (42 U.S.C. 3121 et seq).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary of Economic Affairs, Commerce Department.

[FR Doc. 2023-06800 Filed 3-31-23; 8:45 am]

BILLING CODE 3510-34-P